DEPARTMENT OF DEFENSE

Office of the Secretary

[Docket ID DOD-2018-OS-0007]

Proposed Collection; Comment Request

AGENCY: Office of the Undersecretary of Defense for Personnel and Readiness, DoD.

ACTION: Information collection notice.

SUMMARY: In compliance with the Paperwork Reduction Act of 1995, the Defense Manpower Data Center (DMDC) Defense Human Resources Activity (DHRA) announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by May 7, 2018.

ADDRESSES: You may submit comments, identified by docket number and title, by any of the following methods:

• Federal eRulemaking Portal: http://www.regulations.gov. Follow the instructions for submitting comments.

• Mail: Department of Defense, Office of the Chief Management Officer, Directorate for Oversight and Compliance, 4800 Mark Center Drive, Mailbox #24, Suite 08D09B, Alexandria, VA 22350-1700.

Instructions: All submissions received must include the agency name, docket number, and title for this Federal Register document. The general policy for comments and other submissions from members of the public is to make these submissions available for public viewing on the internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Deputy Director, Defense Travel Management Office, 4800 Mark Center Drive, Suite 04J25-01, Alexandria, VA 22350-6000 or call 571.372.1300 or email philip.g.benjamin.civ@mail.mil.

SUPPLEMENTARY INFORMATION:

Title; Associated Form; and OMB Number: Defense Travel System (DTS); OMB Control Number 0704-XXXX.

Needs and Uses: Information is collected for the purpose of official travel. The information is used to satisfy reporting requirements and detect fraud and abuse. Non-DoD personnel whose information is in DTS includes dependents of DoD Military and Civilian personnel and guests of the DoD such as foreign nationals.

Affected Public: Individuals or Households.

Annual Burden Hours: 250.

Number of Respondents: 1,500.

Responses per Respondent: 1.

Annual Responses: 1,500.

Average Burden per Response: 10 minutes.

Frequency: On occasion.

Respondents provide personal information to facilitate reserving travel and distribution of payment for travel such as financial routing and account number, US Passport number and home mailing address. To collect the personal information for DTS, users login and authenticate to the electronic DTS application. The users create a profile upon their initial access to the system, and they can modify the profile electronically as needed. The primary respondents of DTS are DoD civilians and military personnel. The secondary respondents (less than 1%) are members of the public, specifically dependents of DoD personnel and, in very rare cases, travel guests of DoD such as Academy students or foreign nationals.

Dated: March 1, 2018.
Aaron Siegel,
Alternate OSD Federal Register, Liaison Officer, Department of Defense.

[FR Doc. 2018-04542 Filed 3-5-18; 8:45 am]

BILLING CODE 5001-06-P